DEPARTMENT OF TRANSPORTATION

Saint Lawrence Seaway Development Corporation

33 CFR Part 401

RIN 2135-AA48

Seaway Regulations and Rules: Periodic Update, Various Categories

AGENCY: Saint Lawrence Seaway Development Corporation, DOT.

ACTION: Final rule.

SUMMARY: The Saint Lawrence Seaway Development Corporation (SLSDC) and the St. Lawrence Seaway Management Corporation (SLSMC) of Canada, under international agreement, jointly publish and presently administer the St. Lawrence Seaway Regulations and Rules (Practices and Procedures in Canada) in their respective jurisdictions. Under agreement with the SLSMC, the SLSDC is amending the joint regulations by updating the Regulations and Rules in various categories. The changes update the following sections of the Regulations and Rules: Interpretations and Condition of Vessels. These changes are to clarify existing requirements in the regulations.

DATES: This rule is effective on March 31, 2020.

ADDRESSES: Docket: For access to the docket to read background documents or comments received, go to http://www.Regulations.gov; or in person at the Docket Management Facility; U.S. Department of Transportation, 1200 New Jersey Avenue SE, West Building Ground Floor, Room W12-140, Washington, DC 20590-001, between 9 a.m. and 5 p.m., Monday through Friday, except Federal holidays.

FOR FURTHER INFORMATION CONTACT: Carrie Mann Lavigne, Chief Counsel, Saint Lawrence Seaway Development Corporation, 180 Andrews Street, Massena, New York 13662; 315/764-3200.

SUPPLEMENTARY INFORMATION: The Saint Lawrence Seaway Development Corporation (SLSDC) and the St. Lawrence Seaway Management Corporation (SLSMC) of Canada, under international agreement, jointly publish and presently administer the St. Lawrence Seaway Regulations and Rules (Practices and Procedures in Canada) in their respective jurisdictions. Under agreement with the SLSMC, the SLSDC is amending the joint regulations by updating the Regulations and Rules in various categories. The changes update the following sections of the Regulations and Rules: Interpretations and Condition of Vessels. These changes are to clarify existing requirements in the regulations.

Regulatory Notices: Privacy Act: Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://www.Regulations.gov.

The joint regulations will become effective in Canada on March 31, 2020. For consistency, because these are joint regulations under international agreement, and to avoid confusion among users of the Seaway, the SLSDC finds that there is good cause to make the U.S. version of the amendments effective on the same date.

Regulatory Evaluation

This regulation involves a foreign affairs function of the United States and therefore, Executive Order 12866 does not apply and evaluation under the Department of Transportation's Regulatory Policies and Procedures is not required.

Regulatory Flexibility Act Determination

I certify that this regulation will not have a significant economic impact on a substantial number of small entities. The St. Lawrence Seaway Regulations and Rules primarily relate to commercial users of the Seaway, the vast majority of who are foreign vessel operators. Therefore, any resulting costs will be borne mostly by foreign vessels.

Environmental Impact

This regulation does not require an environmental impact statement under the National Environmental Policy Act (49 U.S.C. 4321, et seq.) because it is not a major federal action significantly affecting the quality of the human environment.

Federalism

The Corporation has analyzed this rule under the principles and criteria in Executive Order 13132, dated August 4, 1999, and have determined that this proposal does not have sufficient federalism implications to warrant a Federalism Assessment.

Unfunded Mandates

The Corporation has analyzed this rule under Title II of the Unfunded Mandates Reform Act of 1995 (Pub. L. 104-4, 109 Stat. 48) and determined that it does not impose unfunded mandates on State, local, and tribal governments and the private sector requiring a written statement of economic and regulatory alternatives.

Paperwork Reduction Act

This regulation has been analyzed under the Paperwork Reduction Act of 1995 and does not contain new or modified information collection requirements subject to the Office of Management and Budget review.

List of Subjects in 33 CFR Part 401

Hazardous materials transportation, Navigation (water), Penalties, Radio, Reporting and recordkeeping requirements, Vessels, Waterways.

Accordingly, the Saint Lawrence Seaway Development Corporation is proposing to amend 33 CFR part 401, Regulations and Rules, as follows:

PART 401—SEAWAY REGULATIONS AND RULES

Subpart A—Regulations

1. The authority citation for subpart A of part 401 continues to read as follows:

Authority: 33 U.S.C. 983(a) and 984(a) (4), as amended; 49 CFR 1.101, unless otherwise noted.

2. In § 401.2, redesignate paragraphs (d) through (s) as paragraphs (e) through (t), add a new paragraph (d), and revise newly redesignated paragraph (g) to read as follows:

§ 401.2 Interpretation.

* * * * *

(d) Hands Free Mooring (HFM) means a system that uses vacuum pads that are mounted on vertical rails inside the lock chamber wall to secure a vessel during the lockage process.

* * * * *

(g) E-business means web applications on the St. Lawrence Seaway Management Corporation website which provides direct electronic transmission of data to complete and submit application forms and transit data;

* * * * *

3. In § 401.7, revise paragraph (c) to read as follows:

§ 401.7 Fenders.

* * * * *

(c) On special application, vessels of unusual design may be permitted to utilize permanent fenders not greater than 30 cm in thickness.

§ 401.9 [Amended]

4. In § 401.9, remove paragraph (c) and redesignate paragraph (d) as paragraph (c).

5. In § 401.14, revise paragraph (b) to read as follows:

§ 401.14 Anchor marking buoys.

* * * * *

(b) Every vessel shall deploy the anchor marking buoy when dropping an anchor in Seaway waters (designated Seaway anchorages exempt).

¹ Maximum speeds at which a vessel may travel in the identified area in both normal and high water conditions are set out in this schedule. The Manager and the Corporation will, from time to time, designate the set of speed limits that is in effect.

6. In schedule II to subpart A of part 401, under “Table of Speeds,” revise section numbers 1 and 10 to read as follows:

Schedule II to Subpart A of Part 401—Table of Speeds ¹
From— | To— | Maximum speed over the bottom, knots: Col. III | Maximum speed over the bottom, knots: Col. IV
1. Upper Entrance South Shore Canal Buoy 1 | Lake St. Louis, Buoy A13 | 10.5 | 10.5
* * * * * * *
10. Bartlett Point, Lt. 227 | Tibbetts Point Traffic Lighted Buoy Mo (A) | 13 | 10.5

* * * * *

Issued at Washington, DC, under authority deleted at 49 CFR part 1.101 Saint Lawrence Seaway Development Corporation.
Carrie Lavigne,
Chief Counsel.

[FR Doc. 2020-05454 Filed 3-19-20; 8:45 am]

BILLING CODE 4910-61-P